DEPARTMENT OF AGRICULTURE

Agricultural Marketing Service

[Doc. No. AMS-TM-13-0092]

Notice of Request for a New Collection of Three Additional Marketing Channels for Local Food

AGENCY: Agricultural Marketing Service, USDA.

ACTION: Notice, new collection.

SUMMARY: In accordance with the Paperwork Reduction Act of 1995, this notice announces the Agricultural Marketing Service's (AMS) intention to request approval of a new collection, titled: Local Food Directories and Survey, from the Office of Management and Budget (OMB). Upon approval, we request that this collection be merged into OMB 0581-0169, National Farmers Market Directory and Survey with Modules, which was approved April 19, 2013.

DATES: Comments on this document must be received by March 17, 2014 to be assured of consideration.

ADDRESSES: You may submit written, faxed, or internet comments to:

• Edward Ragland, Marketing Services Division, Transportation and Marketing Programs, Agricultural Marketing Service, U.S. Department of Agriculture, 1400 Independence Ave. SW., Room 4523 South Building, Ag Stop 0269, Washington, DC 20250-0269.

• Internet: www.regulations.gov.

• Fax: (202) 690-0031.

All written comments should be identified with the document number AMS-TM-13-0092. All comments received will be available for public inspection during regular business hours at the same address. It is our intention to have all comments whether submitted by mail or internet available for viewing on the Regulations.gov (www.regulations.gov) Internet site. Comments submitted will also be available for public inspection in person at USDA-AMS, Transportation and Marketing Programs, Marketing Services Division, Room 4523-South Building, 1400 Independence Ave. SW., Washington, DC, from 9 a.m. to 12 noon and from 1 p.m. to 4 p.m., Monday through Friday, (except official Federal holidays). Persons wanting to visit the USDA South Building to view comments received are requested to make an appointment in advance by calling (202) 720-8317.

SUPPLEMENTARY INFORMATION:

Direct Marketing

Title: Local Food Directories and Survey.

OMB Number: 0581-New.

Expiration Date of Approval: Three years from approval.

Type of Request: New collection for three additional marketing channels for local food.

Abstract: Under the Agricultural Marketing Act of 1946, as amended (7 U.S.C. 1621 et seq.), AMS is responsible for conducting research to enhance market access for small-and medium sized farmers. The role of the Marketing Services Division (MSD) of AMS is to facilitate distribution of U.S. agricultural products. The division identifies marketing opportunities, provides analysis to help take advantage of those opportunities and develops and evaluates solutions including improving farmers markets and other direct-to consumer marketing activities.

On-farm markets, community supported agriculture (CSAs) as well as food hubs comprise an integral part of the urban/farm linkage and have continued to rise in popularity, mostly due to the growing consumer interest in obtaining fresh products directly from the farm. The use of these marketing channels has enabled farmers to receive a larger share of consumer's food dollar. On-farm markets, community supported agriculture (CSAs) and food hubs allow consumers to have access to locally grown, farm fresh produce, enables farmers the opportunity to develop a personal relationship with their customers, and cultivate consumer loyalty with the farmers. They are also providing greater access to fresh locally grown fruits and vegetables, as well as playing increasing role in encouraging healthier eating.

An on-farm market is an area of a facility affiliated with a farm where transactions between a farm market operator and customers take place. An on-farm market may operate seasonally or year-round. On-farm markets are an important component of direct marketing, adding value by offering customers a visit to the farm and the opportunity to purchase products from the people who grew them.

CSA is a another type of food-production and direct marketing relationship between a farmer or farmers and a group consumers who purchase “shares” of the season's harvest in advance of the growing season. The up-front working capital generated by selling shares reduces the financial risk to the farmer(s). Generally farmers receive better prices for their crops and, reduced marketing costs. Consumers benefit by receiving weekly delivery of fresh locally-grown fruits, vegetables, meats, eggs and other produce. They also benefit from the ability to collectively support the sustainability of local farmers.

Food hub is a business or organization that actively manages the aggregation, distribution, and marketing of source-identified food products primarily from local and regional producers to strengthen their ability to satisfy wholesale, retail, and institutional demand. This marketing channel also allows farm operators to capture a larger share of consumers' food dollar.

This information will be used to build three web-based directories and describe the characteristics of on-farm markets, CSAs, and food hubs and to identify trends in their communities.

Topic areas in the survey:

—Characteristics and history of on-farm markets, CSAs and food hubs,

—types of products sold, including fresh, locally-grown produce,

—location of the markets,

—special events,

—marketing methods,

—participation in federal programs designed to increase consumption of fresh fruits, and vegetables.

Estimate of Burden: Public reporting burden for this collection of information is estimated to average 0.167 hours per response.

Respondents: Farm operators that operate on-farm stores, operators of Community Supported Agriculture, (CSA's), farm operations, and operators of food hubs.

Estimated Number of Respondents: 56,750.

Estimated Total Annual Responses: 2,125.

Estimated Number of Responses per Respondent: .037.

Estimated Total Annual Burden on Respondents: 355 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

The information collected is used only by authorized employees of the USDA, AMS.

All responses to this notice will be summarized and included in the request for OMB approval. All comments will become a matter of public record.

Dated: January 10, 2014.
Rex A. Barnes,
Associate Administrator, Agricultural Marketing Service.

[FR Doc. 2014-00767 Filed 1-15-14; 8:45 am]

BILLING CODE 3410-02-P